DEPARTMENT OF DEFENSE

Office of the Secretary

[DoD-2006-OS-0061]

Privacy Act of 1974; System of Records

AGENCY: Office of the Secretary, DoD.

ACTION: Notice to Correct a Systems of Records.

SUMMARY: The Office of the Secretary of Defense is amending a system of records notice in its existing inventory of record systems subject to the Privacy Act of 1974, (5 U.S.C. 552a), as amended. The notice corrects a system of records published on February 22, 2006 (71 FR 9103). The words “Social Security Number” were omitted from the Categories of Records. The notice is being republished in its entirety.

DATES: This action will be effective without further notice on May 19, 2006.

FOR FURTHER INFORMATION CONTACT: Ms. Juanita Irvin at (703) 696-4940.

SUPPLEMENTARY INFORMATION: The specific changes to the record system being amended are set forth below followed by the notice, as amended, published in its entirety. The amendments are not within the purview of subsection (r) of the Privacy Act of 1974, (5 U.S.C. 552a), as amended, which requires the submission of a new or altered system report.

Dated: April 10, 2006.
L.M. Bynum,
OSD Federal Register Liaison Officer, Department of Defense.

DPR 32

System name:

Employer Support of the Guard and Reserve Ombudsman and Outreach Programs (February 22, 2006, 71 FR 9103).

Changes:

* * * * *

Categories of records in the system:

Delete entry and replace with: “Information includes, but is not limited to, name, social security number, home address, phone number, branch of service, and assigned military unit of Armed Forces personnel; name, social security number, home address, and phone number of NDMS members; name of employer, as well as, phone number and, if applicable, employer point of contact, and nature of employment/reemployment conflict; any notes and documentation prepared as a consequence of assisting the servicemember, NDMS member, or the employer.”

* * * * *

DPR 32

System name:

Employer Support of the Guard and Reserve Ombudsman and Outreach Programs.

System location:

Oracle On-Demand Advanced Data Center, Austin, TX 78753-2663.

Categories of Individuals covered by the system:

Members of the Armed Forces, to include Reserve and National Guard personnel, and members of the National Disaster Medical System (NDMS).

Categories of records in the system:

Information includes, but is not limited to, name, social security number, home address, phone number, branch of service, and assigned military unit of Armed Forces personnel; name, social security number, home address, and phone number of NDMS members; name of employer, as well as, phone number and, if applicable, employer point of contact, and nature of employment/reemployment conflict; any notes and documentation prepared as a consequence of assisting the servicemember, NDMS member, or the employer.

Authority for maintenance of the system:

38 U.S.C. Chapter 43, Employment and Reemployment Rights of Members of the Uniformed Services; 42 U.S.C. 300hh-11(e)(3)(A), Employment and Reemployment Rights; DoD Instruction 1205.22, Employer Support of the Guard and Reserve; DoD Instruction 1205.12, Civilian Employment and Reemployment Rights of Applicants for, and Service Members and Former Service Members of the Uniformed Services; DoD Directive 1250.1, National Committee for Employer Support of the Guard and Reserve; and E.O. 9397 (SSN).

Purpose(s):

The purpose of the system is to support the Employer Support of the Guard and Reserve (ESGR) Ombudsman and Outreach Program in providing assistance to servicemembers and members of the National Disaster Medical System in resolving employment-reemployment conflicts and in providing information to employers regarding the requirements of the Uniform Services Employment and Reemployment Act.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, State, and local governmental agencies, as well as to private employers, in furtherance of informal mediation efforts to resolve employment-reemployment conflicts.

To the Department of Labor and the Department of Justice for investigation of, and possible litigation involving, potential violations of the Uniformed Services Employment and Reemployment Rights Act.

The DoD ‘Blanket Routine Uses’ set forth at the beginning of OSD's compilation of systems of records notices apply to this system.

Policies and practices for storing, retrieving, accessing, retaining, and disposing of records in the system:

Storage:

Records are automated and are maintained in computers and computer output media.

Retrievability:

Records may be retrieved by name, Company, zip codes, case numbers, problems/resolution codes, and/or e-mail address.

Safeguards:

Access to personal information will be maintained in a secure, password protected electronic system that will utilize security hardware and software to include: Multiple firewalls, active intruder detection, and role-based access controls. Paper records will be maintained in a controlled facility where physical entry is restricted by the use of locks, guards, or administrative procedures. Access to records is limited to those officials who require the records to perform their official duties consistent with the purpose for which the information was collected. All personnel whose official duties require access to the information are trained in the proper safeguarding and use of the information.

Retention and disposal:

Records are treated as permanent pending a determination by the National Archives and Records Agency of authority for disposition of the records.

System Managers and address:

National Committee, Employer Support of the Guard and Reserve, ATTN: Information Technology, Executive Office, 1555 Wilson Boulevard, Suite 319, Arlington, VA 22209-2405.

Notification procedure:

Individuals seeking to determine whether information about themselves is contained in this system of records should address written inquiries to the National Committee, Employer Support of the Guard and Reserve, ATTN: Case Manager, 1555 Wilson Boulevard, Suite 319, Arlington, VA 22209-2405.

Requests should include the name, social security number, address, telephone number, military unit and branch of service of the servicemember; or the name, social security number, address, and telephone number of the NDMS member. The request also should include the name, address, and telephone number of the employer and a brief description of the problem and date of occurrence.

Record Access Procedures:

Individuals seeking access to information about themselves contained in this system of records should address written inquiries to National Committee, Employer Support of the Guard and Reserve, ATTN: Case Manager, 1555 Wilson Boulevard, Suite 319, Arlington, VA 22209-2405.

Requests should include the name, social security number, address, telephone number, military unit and branch of service of the servicemember; or the name, social security number, address, and telephone number of the NDMS member. The request also should include the name, address, and telephone number of the employer and a brief description of the problem and date of occurrence.

Contesting Record Procedures:

The OSD rules for accessing records, for contesting contents and appealing initial agency determinations are contained in OSD Administrative Instruction 81; 32 CFR part 311; or may be obtained from the system manager.

Record Source Categories:

Information is obtained from the individual, the employer, and other DoD record systems.

Exemptions Claimed for the System:

None.

[FR Doc. 06-3583 Filed 4-13-06; 8:45 am]

BILLING CODE 5001-06-M